DEPARTMENT OF THE INTERIOR

National Park Service

[NPS-WASO-NRNHL-DTS#-32036; PPWOCRADI0, PCU00RP14.R50000]

National Register of Historic Places; Notification of Pending Nominations and Related Actions

AGENCY: National Park Service, Interior.

ACTION: Notice.

SUMMARY: The National Park Service is soliciting electronic comments on the significance of properties nominated before May 22, 2021, for listing or related actions in the National Register of Historic Places.

DATES: Comments should be submitted electronically by June 17, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before May 22, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CALIFORNIA

Contra Costa County

Winehaven Historic District (Boundary Decrease), Both sides of Stenmark Dr. between Drowly Dr. and Grays Cir., Richmond, BC100006694

Sonoma County

Hines House, 301 Chinquapin Ln., Sea Ranch, SG100006689

IDAHO

Butte County

Craters of the Moon National Monument Mission 66 Historic District (National Park Service Mission 66 Era Resources MPS), 18 miles west of Arco on US 20/26/93, Arco vicinity, MP100006698

MONTANA

Lewis and Clark County

Shaw's Best Factory, 426½ Harrison Ave., Helena, SG100006699

OREGON

Jackson County

Holmes, Harry and Eleanor, House, 217 South Modoc Ave., Medford, SG100006685

Linn County

Mill City Southern Pacific Rail Road (SPRR) Bridge, Across North Santiam R., Mill City, SG100006686

RHODE ISLAND

Washington County

Beaver River Road Historic District, Beaver River Rd., Beaver River Schoolhouse Rd., Richmond, SG100006693

SOUTH DAKOTA

Lawrence County

Lead Historic District (Boundary Increase II) (Boundary Decrease), Roughly bounded by the Open Pit, Glendale Dr., West McClellan St., and Homestake Mine complex, Lead, BC100006688

WISCONSIN

Brown County

Mansion Street WWII Defense Housing Historic District, 902-942 Mansion St., De Pere, SG100006697

Milwaukee County

Holy Family Roman Catholic Church Complex, 3767 East Underwood Ave., 3750, 3776 East Hammond Ave., Cudahy, SG100006695

Sheboygan County

Sheboygan Falls School, 101 School St., Sheboygan Falls, SG100006692

Vernon County

Hillsboro Condensed Milk Company, 206 East Madison St., Hillsboro, SG100006696

Additional documentation has been received for the following resources:

IOWA

Linn County

Sinclair, Caroline, Mansion (Additional Documentation), 2160 Linden Dr. SE, Cedar Rapids, AD76000780

WEST VIRGINIA

Brooke County

Hall, Lewis, Mansion (Additional Documentation), (Pleasant Avenue MRA), 1300 Pleasant Ave., Wellsburg, AD86001074

(Authority: Section 60.13 of 36 CFR part 60)

Dated: May 25, 2021.
Sherry A. Frear,
Chief, National Register of Historic Places/National Historic Landmarks Program.

[FR Doc. 2021-11590 Filed 6-1-21; 8:45 am]

BILLING CODE 4312-52-P